DEPARTMENT OF TRANSPORTATION

Federal Highway Administration

Warren and Edmonson Counties in Kentucky

AGENCY: Federal Highway Administration (FHWA), DOT.

ACTION: Notice of planning study.

SUMMARY: The FHWA is issuing this notice to advise the public that the Kentucky Transportation Cabinet (KYTC), in cooperation with the Federal Highway Administration (FHWA), is initiating a planning study for the following highway project “Interstate 66 (I-66) from the William H. Natcher Parkway to the Louie B. Nunn Parkway”.

FOR FURTHER INFORMATION CONTACT: Evan J. Wisniewski, Project Development Team Leader, Federal Highway Administration, 330 West Broadway, Frankfort, KY 40601, Telephone: (502) 223-6740 or Ms. Annette Coffey, Director, Division of Planning, Kentucky Transportation Cabinet, 125 Holmes Street, Frankfort, KY, 40622, Telephone: (502) 564-7183.

SUPPLEMENTARY INFORMATION:

Electronic Access

An electronic copy of this document may be downloaded by using a computer, modem and suitable communications software from the Government Printing Office's Electronic Bulletin Board Service at (202) 512-1661. Internet users may reach the Office of the Federal Register's home page at http://www.nara.gpv//fedreg and the Government Printing Office's web page at http://www.acess.gpo.gov.nara.

Background

The I-66 project is part of a proposed Transamerica Transportation Corridor from the Atlantic Coast of Virginia to the Pacific Coast in California, in accordance with the legislative intent of the Intermodel Surface Transportation Efficiency Act (ISTEA) of 1991 and subsequent Federal transportation legislation. This highway is to pass through southern Kentucky and will generally be centered on the cities of Pikeville, Jenkins, Hazard, London, Somerset, Columbia, Bowling Green, Hopkinsville, Benton, and Paducah. Segments of the corridor across Kentucky are in various stages of project development ranging from corridor studies to final design. The planning study will address alternatives and issues related to the development of an interstate highway that would provide continuity of I-66 between the Natcher and Nunn Parkways and improve accessibility throughout the region.

During the development of this planning study, comments will be solicited from appropriate Federal, state, and local agencies, as well as other interested persons and the general public, in accordance with requirements set forth in the National Environmental Policy Act NEPA) of 1969 and subsequent Federal regulations and guidelines developed by the Executive Office of the President's Council on Environmental Quality and the United States Department of Transportation for the implementation of the NEPA process.

This planning study will include a scoping process for the early identification of potential alternatives for, and environmental issues and impacts related to, the proposed project. At this time, the level of environmental documentation that will ultimately be prepared is not known. However, if an Environmental Impact Statement (EIS) is prepared for the proposed project in the future, the information gained through the scoping process in this planning study may be used as input to the scoping process for the development of that EIS. If an EIS is prepared in the future, written comments on the scope of alternatives and impacts will still be considered at that time, after the filing of the Notice of Intent (NOI).

(Catalog of Federal Domestic Assistance Program Number 20.205, “Highway Planning and Construction”. The regulations implementing Executive Order 12372 regarding intergovernmental consultation on Federal programs and activities apply to this program.)

Issued on: April 30, 2002.
Jose Sepulveda,
Kentucky Division Administrator, Frankfort.

[FR Doc. 02-13886 Filed 6-3-02; 8:45 am]

BILLING CODE 4910-22-M